Title 3—

The President

Proclamation 10587 of May 26, 2023

Prayer for Peace, Memorial Day, 2023

By the President of the United States of America

A Proclamation

On Memorial Day, we honor America's beloved daughters and sons who gave their last full measure of devotion to this Nation. We can never fully repay the debt we owe these fallen heroes. But today, we vow to rededicate ourselves to the work for which they gave their lives, and we recommit to supporting the families, caregivers, and survivors they left behind.

For generations, stretching back to the formation of our country, these courageous people answered duty's call, willing to give their lives for that which we all hold dear. They fought for our Independence. They defended our democracy. They sacrificed for our freedom. And today, as they lie in eternal peace, we continue to live by the light of liberty that they so bravely kept burning bright around the world.

This is always a day where pain and pride are mixed together. To all those who are mourning the loss of a service member—including America's Gold Star Families—we see you and grieve with you. And we know that on this day especially, the pain of their absence can feel overwhelming. But for so many of you, that pain is wrapped around the knowledge that your loved one was part of something bigger than any of us; that they chose a life of mission and purpose; and that they dared all, risked all, and gave all to preserve and defend an idea unlike any other in human history: the United States of America.

These brave service members are not only the heart and soul of our country—they are the very spine. Today—and every day—we remember their service and ultimate sacrifice to our Nation. We reflect on our sacred and enduring vow to care for their families. And together, as we pause and pray, we pledge to continue defending freedom and democracy in their honor. May God bless our fallen heroes, and may God protect our troops.

In honor and recognition of all of our fallen service members, the Congress, by a joint resolution approved May 11, 1950, as amended (36 U.S.C. 116), has requested that the President issue a proclamation calling on the people of the United States to observe each Memorial Day as a day of prayer for permanent peace and designating a period on that day when the people of the United States might unite in prayer and reflection. The Congress, by Public Law 106-579, has also designated 3:00 p.m. local time on that day as a time for all Americans to observe, in their own way, the National Moment of Remembrance.

NOW, THEREFORE, I, JOSEPH R. BIDEN JR., President of the United States of America, do hereby proclaim Memorial Day, May 29, 2023, as a day of prayer for permanent peace, and I designate the hour beginning in each locality at 11:00 a.m. of that day as a time when people might unite in prayer and reflection. I urge the press, radio, television, and all other information media to cooperate in this observance. I further ask all Americans to observe the National Moment of Remembrance beginning at 3:00 p.m. local time on Memorial Day.

I request the Governors of the United States and its Commonwealths and Territories, and the appropriate officials of all units of government, to direct that the flag be flown at half-staff until noon on this Memorial Day on all buildings, grounds, and naval vessels throughout the United States and in all areas under its jurisdiction and control. I encourage families, friends, and neighbors to post tributes to our fallen service members through the Veterans Legacy Memorial at vlm.cem.va.gov so that we may learn more about the lives and contributions of those buried in National, State, and Tribal veteran cemeteries. I also request the people of the United States to display the flag at half-staff from their homes for the customary forenoon period.

IN WITNESS WHEREOF, I have hereunto set my hand this twenty-sixth day of May, in the year of our Lord two thousand twenty-three, and of the Independence of the United States of America the two hundred and forty-seventh.

[FR Doc. 2023-11781

Filed 5-31-23; 8:45 am]

Billing code 3395-F3-P